DEPARTMENT OF COMMERCE

Foreign-Trade Zones Board

[B-77-2021]

Foreign-Trade Zone (FTZ) 18—San Jose, California; Authorization of Production Activity; Lam Research Corporation (Wafer Fabrication Equipment, Subassemblies, and Related Parts), Fremont, Hayward, Livermore, Newark, and Tracy, California

On November 10, 2021, Lam Research Corporation submitted a notification of proposed production activity to the FTZ Board for its facilities within Subzone 18F, in Fremont, Hayward, Livermore, Newark, and Tracy, California.

The notification was processed in accordance with the regulations of the FTZ Board (15 CFR part 400), including notice in the Federal Register inviting public comment (86 FR 66522, November 23, 2021). On March 10, 2022, the applicant was notified of the FTZ Board's decision that no further review of the activity is warranted at this time. The production activity described in the notification was authorized, subject to the FTZ Act and the FTZ Board's regulations, including Section 400.14.

Dated: March 10, 2022.
Andrew McGilvray,
Executive Secretary.

[FR Doc. 2022-05407 Filed 3-14-22; 8:45 am]

BILLING CODE 3510-DS-P